DEPARTMENT OF THE INTERIOR

Bureau of Indian Affairs

[145D0102DR DS5A300000 DR.5A311.IA000514]

Availability of Funds for Climate Change Adaptation and Coastal Management to Federally Recognized Indian Tribes

AGENCY: Bureau of Indian Affairs, Interior.

ACTION: Notice.

SUMMARY: The Bureau of Indian Affairs (BIA) has funding available for support of tribal climate change adaptation and ocean and coastal management planning. Any federally recognized tribe (or tribal organization whose application is supported by a tribal resolution) may submit an application for these funds. The BIA is mailing application packets to each tribal leader. Funds will be awarded under the Indian Self-Determination and Education Assistance Act (ISDEAA).

DATES: Applications must be submitted by April 24, 2015.

ADDRESSES: An application packet has been mailed to tribal leaders. Submit your ISDEAA contract proposal in accordance with the directions in the application packet to climate.funding@bia.gov or Ms. Helen Riggs, Deputy Bureau Director, Office of Trust Services, Bureau of Indian Affairs, 1849 C St. NW., MS-4620, Washington, DC 20240.

FOR FURTHER INFORMATION CONTACT: If you do not receive an application packet or if you would like additional information on how to apply, please contact Helen Riggs, BIA Office of Trust Services, at helen.riggs@bia.gov or (202) 208-5770.

SUPPLEMENTARY INFORMATION: The BIA has up to $8 million in funding available for federally recognized tribes for climate change adaptation and for ocean and coastal management planning. Because limited funding is available, no more than $250,000 is available for any one proposal. The funds are awarded pursuant to ISDEAA, 25 U.S.C. 450 et seq., and are subject to 25 CFR part 900 (for self-determination contracts) or 25 CFR part 1000 (for self-governance funding agreements). Tribes that seek for BIA to perform a project via direct service should contact their BIA Regional Director for additional information. Applicants may request funding for the following:

Climate Adaptation Planning

• Category 1. Trainings & Workshops. Design and host tribal training(s) or workshop(s) to support tribal leaders, climate change coordinators, planners, and program managers to build skills and gather information needed to coordinate the tribal adaptation planning process.

• Category 2. Climate Adaptation Planning. Develop tribal government climate adaptation plans, vulnerability assessments, or data analysis.

• Category 3. Travel. Provide travel support for tribal leaders and staff to attend training(s) or workshop(s) or to participate in cooperative climate change adaptation efforts (including Landscape Conservation Cooperatives, Climate Science Centers, and other adaptation management forums).

Ocean and Coastal Management Planning

• Category 4. Ocean and Coastal Management Planning. Develop ocean and coastal management planning; build tribal capacity; implement a pilot project for restoration and resilience of coastal resources; perform inventories or vulnerability assessments; identify monitoring protocols and critical indicator species; marine spatial planning; coast climate adaptation analysis; or cooperative marine resource plans.

• Category 5. Travel. Provide travel support for tribal representatives to attend organizational meetings, working sessions, or official meetings in support of collaborative planning efforts, including meetings of Regional Planning Bodies (RPBs).

The application packets mailed to tribal leaders will provide additional information, including tips on preparing a proposal, and information on BIA's review and ranking of proposals.

Dated: February 23, 2015.
Kevin K. Washburn,
Assistant Secretary—Indian Affairs.

[FR Doc. 2015-04306 Filed 3-2-15; 8:45 am]

BILLING CODE 4310-W7-P